DEPARTMENT OF TRANSPORTATION

Federal Aviation Administration

Public Notice for Waiver of Aeronautical Land Use Assurance Arlington Municipal Airport, Arlington, WA

AGENCY: Federal Aviation Administration, (FAA), DOT.

ACTION: Notice.

SUMMARY: Notice is being given that the FAA is considering a proposal from the City of Arlington Airport Director to change certain portions of the airport from aeronautical use to non-aeronautical use at Arlington Municipal Airport, Arlington, WA. The proposal consists of ten parcels on the east side of the airfield adjacent to 59th Avenue, Northeast.

DATES: Comments must be received August 10, 2017.

FOR FURTHER INFORMATION CONTACT: Mr. David M. Ryan, Airport Director, City of Arlington, 18204 59th Avenue NE., Arlington, WA 98223; or Ms. Cayla D. Morgan, Environmental Protection Specialist, Seattle Airports District Office, 1601 Lind Avenue SW., Suite 250, Renton, WA 98057-3356, (425) 227-2653. Documents reflecting this FAA action may be reviewed at the above locations.

Written comments can be provided to Ms. Cayla D. Morgan, Environmental Protection Specialist, Seattle Airports District Office, 1601 Lind Avenue SW., Suite 250, Renton, WA 98057-3356.

SUPPLEMENTARY INFORMATION: Under the provisions of Title 49, U.S.C. 47153(c), and 47107(h)(2), the FAA is considering a proposal from the Airport Director, City of Arlington, to change a portion of the Arlington Municipal Airport from aeronautical use to non-aeronautical use. The proposal consists of ten parcels on the east side of the airport adjacent to 59th Avenue, Northeast.

The parcels are landlocked and do not have airfield access. They are currently being used for aerospace manufacturing, office space, and parking. They will remain rental property with all lease revenues going to the airport operating budget. The FAA concurs that the parcels are no longer needed for aeronautical purposes. The proposed use of this property is compatible with other airport operations in accordance with FAA's Policy and Procedures Concerning the Use of Airport Revenue, published in Federal Register on February 16, 1999.

Issued in Renton, Washington, on June 30, 2017.
Joelle Briggs,
Manager, Seattle Airports District Office.

[FR Doc. 2017-14523 Filed 7-10-17; 8:45 am]

BILLING CODE 4910-13-P